DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations and Variances on or before February 19, 2010.

ADDRESSES: You may submit your comments, identified by “docket number” on the subject line, by any of the following methods:

1. Electronic Mail: Standards-Petitions@dol.gov.

2. Facsimile: 1-202-693-9441.

3. Regular Mail: MSHA, Office of Standards, Regulations and Variances, 1100 Wilson Boulevard, Room 2350, Arlington, Virginia 22209, Attention: Patricia W. Silvey, Director, Office of Standards, Regulations and Variances.

4. Hand-Delivery or Courier: MSHA, Office of Standards, Regulations and Variances, 1100 Wilson Boulevard, Room 2350, Arlington, Virginia 22209, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2009-049-C.

Petitioner: INR-WV Operating, LLC, 100 Market Street, Suite A, Man, West Virginia 25635.

Mine: North Fork Coal Refuse Disposal Facility—WV04-02140-01, MSHA I.D. No. 46-02140, located in Logan County, West Virginia.

Regulation Affected: 30 CFR 75.214(a) (Refuse piles; general).

Modification Request: The petitioner requests a modification of the existing standard to permit existing mine openings to be covered during construction of the North Fork Coal Refuse Disposal Facility. The petitioner states that: (1) There are 18 mine openings within the limits of the North Fork Coal Refuse Facility; (2) the openings are associated with the Buffalo Mining Company's No. 8-C Mine in the Upper Winifrede coal seam and the Tri-Energy Resources, Inc., No. 3 Mine and Hart-Hat Coal Company's No. 3 Mine in the Buffalo Creek seam; (3) all of the mines are abandoned; and (4) only a few of the openings are currently exposed. The petitioner further states that: (1) All mine openings will be exposed and sealed and underdrains installed at the lowest elevation opening; (2) the mine openings will be backfilled with earthen material that will extend approximately 25 feet into the mine and at least 4 feet in all directions beyond the limits of the opening; (3) any exposed coal seam along the mine bench will also be covered with soil at least 4 feet above the seam; (4) one 12-inch, SDR-11 high density polyethylene pipe will be placed at the mine opening with the lowest elevation; (5) a rock underdrain, consisting of 3-inch to 9-inch diameter rock cobbles wrapped with filter fabric will be installed to convey potential flow from the pipe to the main rock underdrain or to a groin ditch, and (6) since the existing mines are abandoned, the proposed plan will provide the same measure of protection for the miners as given to them by the standard.

Docket Number: M-2009-050-C.

Petitioner: Wolf Run Mining Company, 300 Corporate Centre Drive, Scott Depot, West Virginia 25560.

Mine: Sentinel Mine, MSHA I.D. No. 46-04168, located in Barbour County, West Virginia.

Regulation Affected: 30 CFR 75.1700 (Oil and gas wells).

Modification Request: The petitioner requests to be permitted to continue mining through the vertical boreholes and horizontal legs and branches (laterals) of CBM wells that penetrate the coalbed it is mining. The petitioner states that one of the following method(s) will be implemented to protect against hazards from such wells to the miners in the mine while mining through CBM wells with horizontal branches in coal seams: (1) The process outlined will be executed under the direction of a certified and qualified person. Only those personnel directly associated with the mine-through process will be present in the heading which is to encounter the borehole during the initial mine intersection of such borehole; and (2) upon approaching a fifty-foot (50′) radius from the nearest portion of an in-seam borehole through the process of through-mining an in-seam borehole—initial mine-through and/or subsequent through-mining of another segment of the same borehole (excluding subsequent mining of a continuous section of the same borehole). The petitioner proposes to: (1) Install vacuum pump(s) or a compressor at the wellhead, capable of maintaining a vacuum, which is lower than the mine operating pressure in the working faces, to the farthest reaches of the associated boreholes; (2) equip the well with continuous flow, pressure and oxygen monitoring equipment. A flame arresting device will be installed on the surface equipment of the well as close as practicable to the outlet connection of the vertical wellhead component. The producing well system will be equipped with an automatic flare stack designed to fall open to the atmosphere in case of compressor shutdown, high pressure, or high oxygen content; (3) configure telemetry equipment to provide automatic warning to both the mine operator and well operator should the vacuum system shut down or lose vacuum force. The warning system will be capable of notification by telephone and/or fax to both organizations simultaneously. Warning alarms will be monitored twenty-four (24) hours per day, seven (7) days per week. Personnel for both organizations will be trained and simulated drills will be performed to ensure emergency preparedness. Once mining is within twenty-four (24) hours of intersecting the borehole, qualified personnel will be stationed continuously at the well site until the mine-through has been achieved. If communications become unavailable or inadequate during such period, mining will cease until suitable communications are reestablished; (4) ensure that the well liquid level is maintained below the lower coal seam junction; (5) notify MSHA Morgantown District Manager, MSHA Bridgeport Field Office, and appropriate state agencies at least twenty-four (24) hours prior to the shift on which the mine-through is projected to occur; (6) position firefighting equipment, including two 20 pound fire extinguishers, 240 pounds of rock dust, and a fire hose long enough to reach the face having the capability of delivering a minimum of 50 gallons per minute of water at a nozzle pressure of 50 pounds per square inch; (7) assure that no less than the volume of air prescribed in the approved face ventilation plan is delivered to the face of the heading which will encounter the borehole; (8) calibrate the onboard methane monitor on the applicable continuous miner at the end of the last production shift prior to the projected mine-through; (9) reduce the interval for methane readings from 20 minutes to 10 minutes as mining progresses through the mine-through procedure; (10) de-energize face equipment and inspect the area as soon as the borehole is breached, including methane readings at the face, behind the line curtain, and in the immediate return. If mine air flows into the lateral as expected, or if gas inflow is acceptably low, proceed with mining only to the extent that a clean face has been prepared for roof-bolting and borehole plugging. If gas inflow from the well is unacceptably high (1.0% methane by volume, or higher, as measured at least twelve inches from the roof, rib, face, and floor), take appropriate action on the section and immediately, from under supported roof, install a cup type packer device with a minimum of 20 feet of pipe. Load the hole with water to ensure inflow is controlled. Monitor liquid level in case of leakage and refill liquid as required; and (11) take a methane reading at least once every 10 minutes, using a properly calibrated hand-held methane detector, while bolting and cleaning up (scooping) the face for the sealing operation, and heavily rock dust the affected face and entry. The petitioner states that MSHA personnel may interrupt or halt the mining-through operation when it is necessary for the safety of the miners. Persons may review a complete list of procedures for this petition at the MSHA address listed in this notice. The petitioner asserts that the proposed alternative method will at all times guarantee no less than the same measure of protection at the Sentinel Mine as would be afforded by the existing standard.

Docket Number: M-2009-051-C.

Petitioner: Rockhouse Creek Development, LLC, 210 Larry Joe Harless Drive, P.O. Box 1389, Gilbert, West Virginia 25621.

Mine: No. 3-A Mine, MSHA I.D. No. 46-09279, located in Mingo County, West Virginia.

Regulation Affected: 30 CFR 75.1101-1(b) (Deluge-type water spray systems).

Modification Request: The petitioner requests a modification of the existing standard to allow Rockhouse Creek Development (RCD) to continue its weekly inspections and functional testing of its complete deluge-type water spray system, and to remove blow-off dust covers from the nozzles. The petitioner states that: (1) Sections 75.1101-1 through 75.1101-4 set forth requirements regarding deluge-type water spray systems and among those requirements there is no mandate to inspect and functional-test such systems. Nevertheless, RCD conducts a weekly inspection and functional-tests of its complete deluge-type spray system. The system consists of an average of thirty (30) sprays along each of approximately ten (10) primary belt-conveyor drives and an average of sixty (60) sprays along each of eight (8) secondary drives; and (2) Currently RCD provides blow-off dust covers for each nozzle as required in 75.1101-1. In view of the frequent inspections and functional testing of the system, the dust covers are not necessary because the nozzles can be maintained in an unclogged condition through weekly use. Further, it is burdensome to recap the large number of covers weekly after each inspection and functional test. The petitioner asserts that the proposed alternative method would at all times guarantee no less than the same measure of protection afforded the miners employed at Rockhouse Creek Development by the existing standard.

Docket Number: M-2009-052-C.

Petitioner: ICG Beckley, LLC, 300 Corporate Centre Drive, Scott Depot, West Virginia 25560.

Mine: Beckley Pocahontas Mine, MSHA I.D. No. 46-05252, located in Raleigh County, West Virginia.

Regulation Affected: 30 CFR 75.1700 (Oil and gas wells).

Modification Request: The petitioner requests a modification of the existing standard to be permitted to continue mining through the vertical boreholes and horizontal legs and branches (laterals) of coalbed methane (CBM) wells that penetrate the coalbed it is mining. Intact Coal Bed Methane Borehole (Surface Articulated/Drilled) (CBM) Mine Through Plans. One of the following method(s) will be implemented to protect against hazards from such wells to the miners in the mine while mining through CBM wells with horizontal branches in coal seams: Option A: Water plug under pressure: (1) The CBM well will be infused with water prior to the underground mining operations breaching the CBM well. A positive pressure will be maintained on the CBM well in an effort to infuse the coal around the CBM hole with water, as well; (2) the CBM well system will be equipped with a flame arrestor and sufficient lightning protection; (3) mining will be completed in accordance with the underground mine-through procedures as listed in the plan; (4) legs/laterals that are opened after mining will be evaluated to determine the quantity of methane being produced in order to determine if the lateral will have to be plugged or simply ventilated; (5) if a plug is required, it will be installed in accordance with the contingency plans as listed; (6) typically, open legs/laterals will be breached multiple times during mining. The segmented hole(s) will be ventilated or filled with water each time it is breached. The larger or outby portions of the borehole/degas hole will be pressurized with water. Option B: Maintain Negative (Vacuum) Pressure on Degas Hole: (1) The CBM well will have a vacuum pump or compressor system setup at the wellhead that will have the capability of maintaining a sufficient vacuum pressure on the entire CBM borehole and provide a pressure that is lower than the mine operating pressure at any intersection point; (2) the CBM well will be set up with a 24 hour monitoring system that will immediately notify the mine operator of any reductions or losses in vacuum pressure; (3) the well system will be equipped with a flame arrestor and sufficient lightning protection. An automatic vent and oxygen sensor system will be installed and maintained such that when oxygen from the underground mine/pipe system is detected, the vent will open and vent the methane to the atmosphere; (4) the CBM gas well on the surface will be pressurized and a negative (vacuum) pressure will be maintained on the legs/laterals of the system; (5) mining will be completed in accordance with the underground mining procedures listed in this plan; (6) when a degas hole is intercepted, mine air will be pulled into the open borehole and will ventilate the outby portion of the degas borehole immediately; (7) legs/laterals on the inby portion of the hole that are not being pulled to the surface will be evaluated to determine the quantity of methane being produced in order to determine if the lateral will have to be plugged or simply ventilate; (8) if a plug is required it will be installed in accordance with the contingency plan as listed; (9) typically, open legs/laterals will be breached multiple times during mining. The segmented hole(s) will be ventilated by mine air or by the pressure from the vacuum pump on the surface; (10) short segments of CBM legs/laterals (100 feet or less) will be ventilated and air forced through the segment to sweep away any methane in that segment. After the hole has been ventilated, it will be allowed to remain open and be ventilated with the remainder of the mine. Option C: Plugging the Coalbed Methane Well (CBM) from the Surface: (1) Procedures for cleaning out and preparing the CBM well for plugging: (a) Make a diligent and reasonable effort to remove all metal casing from the CBM/well borehole unless it has been grouted in place. Metal casing that has been grouted in place will be perforated or ripped at intervals to allow for any expanding cement or slurry mixtures to infiltrate the annulus between the casing and the borehole wall; (b) a diligent and reasonable effort will be made to reenter the CBM/well borehole to the original total measured distance. If the total measured distance cannot be reached, the borehole will be reentered to the maximum extent practicable. Similarly, any known laterals will be reentered to the maximum extent practicable; (c) a directional deviation survey completed during the drilling of the borehole/well or during the cleanout will be utilized to determine the relative location of the coal seam and of the location of the boreholes within the coal seam; (2) Plugging Coalbed Methane (CBM) wells: (a) Once the borehole has been reentered to the maximum extent practicable, expanding grout will be pumped into the CBM. Where laterals are encountered, a diligent and reasonable effort will be made to reenter each known lateral and grout to the maximum extent practicable. Upon completion of grouting each lateral, the inby portion of the main trunk line of the CBM will be filled with expanding grout to the maximum extent practicable, and will be repeated until the CBM is grouted/filled to the surface; (b) the MSHA District Manager will determine what alternate materials other than grout are suitable for use in sealing the borehole; and (c) a small quantity of steel shavings or magnetic material will be installed at the top of the grouted CBM borehole and utilized as a monument locating the site; (3) If the CBM well is located such that it may be used as a bleeder borehole, the grout mixture quantity will be limited to fill only the coal seam drill hole void. In all other circumstances, the CBM will be filled with grout to at least fifty feet above the upper most underground minable coal seam. The petitioner states that: (1) The operator will notify the District Manager or his designee prior to mining within 300 feet of any well and when a specific plan is designated for mining through each well. The District Manager or his designee, the representative of miners, and the appropriate State agency will receive reasonable notification prior to the mining-through operation in order to have an opportunity to have a representative present; (2) the mining-through operation will be under the direct supervision of a certified person in charge. Personnel will not be permitted in the area of the mining-through operation except those actually engaged in the operation, company personnel, a representative of the miners, the MSHA representative(s) and the representative(s) from the appropriate State agency; (3) underground procedures for mining through a degas borehole will include firefighting equipment, fire extinguishers, rock dust and sufficient fire hose to reach the working face to be available near the working place where the cut-through will take place. The surrounding area within 20 feet of the cut-through area will be heavily rock dusted immediately prior to the cut-through. Adequate roof support and ventilation materials will be available near the working place where the cut-through will take place. Ventilation quantities will be maintained at the working face throughout the mine-through operation. Equipment will be in compliance with permissibility requirements and compliance will be verified on the shift immediately prior to the cut-through. Persons may review a complete description of the petitioner's procedures for mining through CBM wells at the MSHA address listed in this notice. The petitioner asserts that the proposed alternative method will at all times guarantee no less than the same measure of protection at the Beckley Pocahontas Mine as would be afforded by the existing standard.

Docket Number: M-2009-053-C.

Petitioner: ICG Beckley, LLC, 2221 Old Eccles Road, P.O. Box 49, Eccles, West Virginia 25836.

Mine: Beckley Pocahontas Mine, MSHA I.D. No. 46-05252, located in Raleigh County, West Virginia.

Regulation Affected: 30 CFR 75.1909(b)(6) (Non-permissible diesel-powered equipment; design and performance requirements).

Modification Request: The petitioner requests a modification of the existing standard to permit the Getman Roadbuilder, Serial Number 460-001 to be operated as it was originally designed, without front brakes. The petitioner states that: (1) The rule does not address equipment with more than four (4) wheels, specifically the Getman Roadbuilder, Model RDG-1504S, with six (6) wheels; (2) the machine has dual brake systems on the four (4) rear wheels, and is designed to prevent loss of braking due to a single component failure; (3) seventy-four percent (74%) of the machines total weight is over the four (4) rear wheels; and (4) with the weight distribution, brakes on the rear of the machine are sufficient to safely stop the machine. The petitioner further states that: (1) Training will be provided to the grader operators to lower the moldboard to provide additional stopping capability in emergency situations; and (2) training will be provided to the grader operators to recognize the appropriate speeds to use on different roadway conditions, and to limit the maximum speed to 10 miles per hour. The petitioner asserts that the proposed alternative method will provide the same degree/level of safety as the existing regulation.

Docket Number: M-2009-054-C.

Petitioner: Pinnacle Mining Company, LLC, P.O. Box 338, Pineville, West Virginia 24874.

Mine: Pinnacle Mine, MSHA I.D. No. 46-01816, located in Wyoming County, West Virginia.

Regulation Affected: 30 CFR 75.507-1 (Electric equipment other than power-connection points; outby the last open crosscut; return air; permissibility requirements).

Modification Request: The petitioner requests a modification of the existing standard to permit 2,400-volt or 4,160-volt alternating current submersible pump(s) to be installed and operated in return and/or bleeder entries and sealed areas in the Pinnacle Mine. The petitioner states that the three phase 2,400-volt or 4,160-volt alternating current electric power circuit(s) for the pump(s) will be designed and installed to: (a) contain either a direct or a derived neutral, which will be grounded through a suitable resistor at the source transformer of power center. A grounding circuit originating at the grounded side of the grounding resistor will extend along with the power conductors and serve as the grounding conductor for the frame of the pump(s) and all associated electric equipment that may be supplied power from the circuit(s). The borehole casing will be bonded to the system grounding medium; and (b) contain a grounding resistor that limits the ground-fault current to not more than 6.5 amperes. The grounding resistor must be rated for the maximum fault current available and must be insulated from ground for a voltage equal to the phase-to-phase voltage of the system. The petitioner asserts that the proposed alternative method will provide an acceptable alternative and provide at least the same degree of safety as the existing standard.

Docket Number: M-2009-055-C.

Petitioner: Prairie State Generating Company, LLC, 4274 County Highway 12, Marissa, Illinois 62257.

Mine: Lively Grove Mine, MSHA I.D. No. 11-03193, located in Washington County, Illinois.

Regulation Affected: 30 CFR 75.503 (Permissible electric face equipment; maintenance).

Modification Request: The petitioner requests a modification of the existing standard to permit the trailing cables to be increased to the maximum length of 950 feet for the 995 volt three-phase alternating current continuous mining machines and the 480-volt to 995 volt three-phase alternating current roof-bolting machines. The petitioner states that: (1) The maximum length of the trailing cables supplying power to three-phase 995 continuous miners will be 950 feet. The maximum length of the trailing cables supplying power to three-phase 480-volt or 995-volt roof bolting machines will be 950 feet; (2) the trailing cables for the 995-volt continuous mining machines will not be smaller than No. 2 American Wire Gauge (AWG), SHD-GC. The trailing cables for the 480-volt or 995-volt roof bolting machines will not be smaller than No. 2 AWG, SHD-GC; (3) all circuit breakers used to protect the No. 2 AWG trailing cables exceeding 850 feet in length will have instantaneous trip units calibrated to trip at 1,500 amperes. The trip setting will be sealed so that the setting cannot be changed, and these circuit breakers will have permanent, legible labels. Each label will identify the circuit breakers as being suitable for protecting No. 2 AWG cables. The label will be maintained legible. Replacement instantaneous trip units used to protect No. 2 AWG trailing cables will be calibrated to trip at 1,500 amperes and the setting will be sealed or locked for trailing cables exceeding 850 feet in length; (4) all circuit breakers used to protect No. 2 AWG trailing cables exceeding 700 feet in length and less than 850 feet in length, will have instantaneous trip units calibrated to trip at 800 amperes. The trip setting will be sealed to that the setting cannot be changed, and will have permanent, legible labels. Each label will identify the circuit breakers as being suitable for protecting No. 2 AWG cables. The label will be maintained legible. Replacement instantaneous trip units used to protect No. 2 AWG trailing cables will be calibrated to trip at 800 amperes and this setting will be sealed or locked for trailing cables exceeding 700 feet in length and less than 850 feet in length; (5) all components that provide short-circuit protection will have a sufficient interruption rating in accordance with the maximum calculated fault currents available. Short-circuit current setting must not exceed 70 percent of the minimum available current; (6) during each production day, persons designated by the mine operator will visually examine the trailing cables to ensure that the cables are in safe operating condition and that the instantaneous settings of the specially calibrated breakers do not have seals or locks removed and that they do not exceed the settings stipulated in items 5 and 6; (7) permanent warning labels will be installed and maintained on the cover(s) of the power center identifying the location of each sealed short-circuit protective device; (8) any trailing cable that is not in safe operating condition will be removed from service immediately and repaired or replaced; (9) splices and repairs in trailing cables will be made in accordance with the instructions of the splice or repair manufacturer and 30 CFR 75.603 and 30 CFR 75.604; (10) all miners who have been designated to examine the integrity of seals, verify the short-circuit settings, and examine trailing cables for defects will receive part 48 training in the following: (a) The mining methods and operating procedures that will protect the trailing cables against damage; (b) the proper procedures for examining the trailing cables to ensure that they are in safe condition; (c) the hazards if setting the short-circuit interrupting device(s) too high to adequately protect the trailing cables; and (d) how to verify that the circuit interrupting device(s) protecting the trailing cable(s) are properly set and maintained. The petitioner asserts that the alternative method will at all times guarantee no less than the same measure of protection afforded by the existing standard.

Docket Number: M-2009-056-C.

Petitioner: Prairie State Generating Company, LLC, County Highway12, Marissa, Illinois 62257.

Mine: Lively Grove Mine, MSHA I.D. No. 11-03193, located in Washington County, Illinois.

Regulation Affected: 30 CFR 75.1002 (Installation of electric equipment and conductors; permissibility).

Modification Request: The petitioner requests a modification of the existing standard to permit the use of 2,400-volt continuous miners in the Lively Grove Mine. The petitioner states that: (1) The nominal voltage of power circuits will not exceed 2,400 volts; (2) the nominal voltage of the control circuits will not exceed 120 volts; (3) the ground-fault current will be limited by a neutral grounding resistor to not more than 0.5 ampere; (4) high-voltage circuits will be protected against short-circuits, overload, ground-faults, and undervoltage by a circuit interrupting device of adequate interrupting capacity; (5) the high-voltage cable for the 2,400-volt continuous miner circuit will be provided with instantaneous ground-fault protection set at not more than 0.125 ampere; (6) the neutral grounding resistor will be provided with backup ground-fault protection that will de-energize the primary of the transformer if a ground fault occurs with the neutral grounding resistor open; (7) each ground-fault current device will be provided with a test circuit that will inject a current of 50 percent or less of the current rating of the grounding resistor and cause each corresponding circuit-interrupting device to open. The test circuit will not subject the equipment to an actual phase-to-ground-fault condition. The petitioner further states that within 60-days after the Proposed Decision and Order become final, the petitioner will submit provisions for its approved part 48 training plan to the District Manger. The proposed revisions will include, but not limited to, task training, hazard training, and specialized training for qualified persons under 30 CFR 75.153, and annual refresher training. In addition, the following will be adopted: (a) Safety precautions for the handling and use of high-voltage trailing cables, for all mines assigned to work in the area of the high-voltage trailing cable; and (b) specialized training for qualified electricians that will be required to repair, maintain and/or trouble-shoot the high-voltage trailing cable or equipment. This training will focus on the requirements of this modification. Persons may review a complete description of the petitioner's proposed alternative method at the MSHA address listed in this notice. The petitioner asserts that the alternative method will at all times guarantee no less than the same measure of protection afforded by the existing standard.

Docket Number: M-2009-057-C.

Petitioner: Prairie State Generating Company, LLC, 4274 County Highway 12, Marissa, Illinois 62257.

Mine: Lively Grove Mine, MSHA I.D. No. 11-03193, located in Washington County, Illinois.

Regulation Affected: 30 CFR 75.1700 (Oil and gas wells).

Modification Request: The petitioner requests a modification of the existing standard to permit an alternative method of plugging and mining through oil and gas wells. The petitioner states that: (1) Lively Grove Mine will be mining the Herrin #6 coal and will experience mining around or through oil and gas wells; (2) copies of the plugging affidavits have been acquired from the Illinois State Geological Survey in the reserve area; and (3) before the well is approached, a drawing will be submitted to the District Office for approval to either mine around the well or through the well if necessary. The petitioner also states that the following procedures will be utilized when plugging oil and gas wells: (1) Cleaning out and preparing oil and gas wells: (i) A diligent effort will be made to clean the borehole to the original total depth. If this depth cannot be reached, the borehole will be cleaned out to a depth which would permit the placement of at least 200 feet of expanding cement below the base of the lowest minable coalbed; (ii) when clearing the borehole, a diligent effort will be made to remove all the casing in the borehole. If it is not possible to remove all casing, the casing which remains will be perforated or ripped at intervals spaced close enough to permit expanding cement slurry to infiltrate the annulus between the casing and the borehole wall for distance of at least 200 feet below the base of the lowest minable coalbed; (iii) if the cleaned out borehole produces gas, a mechanical bridge plug will be place in the borehole in a competent stratum at least 200 feet below the base of the lowest minable coalbed, but above the top of the uppermost hydrocarbon producing stratum. If it is not possible to set a mechanical bridge plug, a substantial brush plug may be used in place of the mechanical bridge plug; (iv) a suite of logs will be made consisting of a caliper survey directional deviation survey, and log(s) suitable for determining the top and bottom of the lowest minable coalbed and potential hydrocarbon producing strata and the location for the bridge plug. An electric well log to determine hole diameter will be conducted to accurately predict the quantity of cement required to plug the hole from 200 feet below the base of the lowest minable coal seam to the surface; (v) if the uppermost hydrocarbon-producing stratum is within 200 feet of the base of the lowest minable coalbed, properly placed mechanical bridge plugs or a suitable brush plug described in subparagraph (a)(3) will be used to isolate the hydrocarbon producing stratum from the expanding cement plug. Nevertheless, a minimum of 200 feet of expanding cement will be place below the lowest minable coalbed; and (vi) the wellbore will be completely filled and circulated with a gel that inhibits any flow of gas, supports the walls of the borehole, and increases the density of the expanding cement. This gel will be pumped through an open-end tubing run to a point approximately 20 feet above the bottom of the cleaned out area of the borehole bridge plug. (2) Plugging oil and gas wells to the surface. Procedures to be utilized when plugging gas or oil wells to the surface are as follows: (i) A cement plug will be set in the wellbore by pumping an expanding cement slurry down the tubing to displace the gel and fill the borehole to the surface. As an alternative, the cement slurry may be pumped down the tubing so that the borehole is filled with Portland cement or a Portland cement-fly ash mixture from a point approximately 100 feet above the top of the lowest minable coalbed to the surface with an expanding cement plug extending from at least 200 feet below the lowest minable coalbed to the bottom of the Portland cement. There will be at least 200 feet of expanding cement below the base of the lowest minable coalbed, and (ii) a surface casing, small quantity of steel turnings, or other small magnetic particles, will be embedded in the top of the cement near the surface to serve as a permanent magnetic monument of the borehole. As an alternative, a steel rod may be driven into the ground next to the borehole. (3) Plugging oil or gas wells using the vent pipe method. Procedures to be utilized when using the vent pipe method for plugging gas or oil wells are as follows: (i) A 4½ inch or larger vent pipe will be run into the wellbore to a depth of 100 feet below the lowest minable coalbed and welded to a smaller diameter pile, if desired, which will extend to a point approximately 20 feet above the bottom of the cleaned out area of the borehole or bridge plug; (ii) a cement plug will be set in the wellbore by pumping an expanding cement slurry, Portland cement, or a Portland cement-fly ash mixture down the tubing to displace gel so that the borehole is filled with cement. The borehole and the vent pipe will be filled with expanding cement for minimum of 200 feet below the base of the lowest minable coalbed. The top of the expanding cement will extend to a point approximately 100 feet above the top of the lowest minable coalbed; (iii) all fluid will evacuated from the vent pipe to facilitate testing for gases. During the evacuation of fluid, the expanding cement will not be disturbed; and (vi) the top of the vent pipe will be protected to prevent liquids or solids from entering the wellbore, but permit ready access to the full internal diameter of the vent pipe when necessary. (4) Plugging oil or gas wells for use as degasification boreholes. Procedures to be utilized when plugging gas or oil wells for subsequent use of degasification boreholes are as follows: (i) A cement plug will be set in the wellbore by pumping an expanding cement slurry down the tubing to displace the gel and provide at least 200 feet of expanding cement below the lowest minable coalbed; (ii) to facilitate methane drainage, degasification casing of suitable diameter, slotted or perforated throughout its lower 150 to 200 feet will be set in the borehole to a point 10 to 30 feet above the top of the expanding cement; (iii) the annulus between the degasification casing and the borehole wall will be cemented from a point immediately above the slots or perforations to the surface; (iv) the degasification casing will be cleaned out for its total length; and (v) the top of the degasification casing will be fitted with a wellhead equipped as required by the District Manager. Such equipment may include check valves, shut-in valves, sampling port, flame arrester equipment, and security fencing. The petitioner further states that when mining through a plugged oil or gas well, the District Manager or designee will be notified prior to mining within 300 feet of the well and when a specific plan is developed for mining through each well. Within 60 days after this Proposed Decision and Order becomes final, the petitioner will submit proposed revisions for its approved 30 CFR Part 48 training plan to the District Manager. These proposed revisions will include initial and refresher training regarding compliance with the terms and conditions stated in the Proposed Decision and Order. Persons may review a complete description of the petitioner's procedures for implementing the proposed alternative method at the MSHA address listed in this notice. The petitioner asserts that the alternative method will at all times guarantee no less than the same measure of protection afforded by the existing standard.

Docket Number: M-2009-058-C.

Petitioner: Perry County Coal Corporation, 1845 S KY Hwy 15, Hazard, Kentucky 41701.

Mine: E4-1 Mine, MSHA I.D. No. 15-18565, located in Perry County, Kentucky.

Regulation Affected: 30 CFR 75.503 (Permissible electric face equipment; maintenance).

Modification Request: The petitioner requests a modification of the existing standard to permit the E4-1 Mine to increase the maximum length of trailing cables supplying power to permissible pumps in the mines. The petitioner states that: (1) This petition will apply only to trailing cables supplying three-phase, 480-volt power for permissible pumps; (2) the maximum length of the 480-volt power for permissible pump will be 4,000 feet; (3) all circuit breakers used to protect trailing cables exceeding the pump approval length or Table 9 of Part 18 will have an instantaneous trip unit calibrated to trip at 75 percent of phase to phase short-circuit current. The trip setting of these circuit breakers will be sealed or locked, and these circuit breakers will have permanent legible labels. Each label will identify the circuit breaker as being suitable for protecting the trailing cables, and the labels will be maintained legible. In instances where a 75 percent instantaneous set point will not allow a pump to start due to motor inrush, a thermal magnetic breaker will be furnished. The thermal rating of the circuit breaker will be no greater than 75 percent of the available short-circuit current and the instantaneous setting will be adjusted one setting above the motor inrush trip point. This setting will also be sealed or locked; (4) replacement instantaneous trip units used to protect pump trailing cables exceeding the length of Table 9 of Part 18 will be calibrated to trip at 75 percent of the available phase to phase short circuit current and this setting will be sealed or locked; (5) permanent warning labels will be installed and maintained on the cover(s) of the power center to identify the location of each sealed or locked short-circuit protection device. These labels will warn miners not to change or alter the short circuit settings; (6) the pump circuits attached to this petition have greater lengths than approved or in Table 9. All future pump installation with excessive cable lengths will have a short-circuit survey conducted and items 1-5 will be implemented. A copy of each pump's short-circuit survey will be available at the mine site for inspection; and (7) the petitioner's alternative method will not be implemented until designated miners have been trained to examine the integrity of the seals or locks, verify the short-circuit settings, and perform proper procedures for examining trailing cables for defects and damage. The petitioner further states that within 60 days after the Proposed Decision and Order becomes final, proposed revisions for approved 30 CFR Part 48 training plan at any of the listed mines will be submitted to the Coal Mine Safety and Health District Manager. The training plan will include: (a) Training in the mining methods and operating procedures for protecting the trailing cables against damage; (b) training in proper procedures for examining the trailing cables to ensure they are in safe operating condition; (c) training in hazards of setting the instantaneous circuit breakers too high to adequately protect the trailing cables; and (d) training in how to verify that the circuit interrupting device(s) protecting the trailing cable(s) are properly set and maintained; and (e) the procedures of 30 CFR 48.3 for approval of proposed revisions to already approved training plans will apply. The petitioner asserts that the proposed alternative method will at all times guarantee no less than the same measure of protection to all miners at Perry County Coal Corporation than is provided the existing standard.

Dated: January 14, 2010.
Patricia W. Silvey,
Director, Office of Standards, Regulations and Variances.

[FR Doc. 2010-935 Filed 1-19-10; 8:45 am]

BILLING CODE 4510-43-P